DEPARTMENT OF HEALTH AND HUMAN SERVICES

Administration for Children and Families

Grants and Cooperative Agreements; Availability, etc: Family Violence Prevention and Services Program

Federal Agency Contact Name: Administration on Children, Youth and Families, Family and Youth Services Bureau (FYSB), Family Violence Prevention and Services Program.

Funding Opportunity Title: FY 2004 Discretionary Grants for the Family Violence Prevention and Services Program—Development of Services to Immigrant Victims of Domestic Violence and their Children.

Announcement Type: Initial.

Funding Opportunity Number: HHS-2004-ACF-ACYF-EV-0023.

CFDA Number: 93.592.

Due Date for Applications: The due date for receipt of applications is July 16, 2004.

I. Funding Opportunity Description

The Administration for Children and Families, Administration on Children, Youth and Families, Family Youth Services Bureau announces the availability and request for applications for its FY 2004 Family Violence Prevention and Services discretionary grants.

Legislative Authority

The Family Violence Prevention and Services Act (the Act) was originally enacted in sections 301-313 of Title III of the “Child Abuse Amendments of 1984” (Pub. L. 98-457, 10/9/84). The Act was reauthorized and otherwise amended by the “Child Abuse Prevention, Adoptions, and Family Services Act of 1988” (Pub. L. 100-294, 4/25/88); the “Child Abuse, Domestic Violence, Adoption, and Family Services Act of 1992” (Pub. L. 102-295, 5/28/92); the “Safe Homes for Women Act of 1994,” Subtitle B of the “Violent Crime Control and Law Enforcement Act of 1994” (Pub. L. 103-322, 9/13/94); and the “Child Abuse and Prevention Treatment Act Amendments of 1996” (Pub. L. 104-235, 10/3/96); and the “Victims of Trafficking and Violence Protection Act of 2000” (Pub. L. 106-386, 10/28/00). The Act was most recently amended by the “Keeping Children and Families Safe Act of 2003” (Pub. L. 108-36).

Purpose

The Administration on Children, Youth and Families, Bureau of Runaway and Homeless Youth, will seek proposals for the following objectives: (1) To provide technical assistance to FVPSA grant administrators on issues that inhibit the development of programs and services to immigrant victims of family violence and their children; (2) to develop collaborative responses and to provide cross— training to enhance responses to immigrant victims of family violence and their families; and (3) to develop policies and protocols that increase the scope, operation and linkages between domestic violence service providers and organizations serving immigrant communities. Moreover, submitted proposals must assure that their activities promote cultural competency that meets the cultural and socioeconomic context of immigrant victims and their children.

Background

Recent census data confirms significant increases in immigration populations across the United States, including increases in many States that previously had relatively low numbers of immigrants. Because of this population increases there is a need to support the expansion of programs that serve the complex needs of immigrant victims of domestic violence and their children. It is essential that collaborations providing domestic violence services be established with organizations that have established trust with immigrant communities, have access to women and children in those communities, and understand the need for culturally competent services to immigrant victims.

Minimum Requirements

• Propose a technical assistance strategy available to FVPSA State grant administrators that will effectively, and with cultural competency, improves their services to immigrant domestic violence victims and their children.

• Identify a partnership with immigrant community based organizations, and organizations representing the interest of immigrants, in order to provide information and assistance on legal issues and immigration law.

• Develop interagency protocols that create an opportunity for immigrant victims to identify the services they require and receive assistance within the complexity of their multiple issues. Such issues may include public benefits, protection orders, legal advocacy, custody issues and questions, and immigration status.

• Provide for an evaluation of the effectiveness of the collaborative efforts.

• Include in the final report a description of the protocols developed to assist in responding to the needs of the immigrant community and the more effective delivery of services.

II. Award Information

Funding Instrument Type: Grant.

Category of Funding Activity: ISS Income Security and Social Services.

Anticipated Total Program Funding: $150,000 in FY2004.

Anticipated Number of Awards: 3.

Ceiling on Amount of Individual Awards: $50,000 per project period. An application received that exceeds the upper value of the dollar range specified will be considered “non-responsive” and be returned to the applicant without further review.

Floor of Individual Award Amounts: None.

Average Anticipated Award Amount: $50,000 per project period.

Project Period for Awards: This announcement invites applications for a 12 month project period.

III. Eligibility Information

1. Eligible Applicants

State agencies administering FVPSA shelter services grants, State Domestic Violence Coalitions, domestic violence immigrant organizations, public non-profit organizations, faith-based organizations, and domestic violence advocacy organizations are eligible to apply.

Additional Information on Eligibility

Non-profit organizations applying for funding are required to submit proof of their non-profit status. Proof of non-profit status is any one of the following:

(a) A reference to the applicant organization's listing in the Internal Revenue Service's (IRS) most recent list of tax-exempt organizations described in the IRS code.

(b) A copy of a currently valid IRS tax exemption certificate.

(c) A statement from a State taxing body, State Attorney General, or other appropriate State official certifying that the applicant organization has a non-profit status and that none of the net earnings accrue to any private shareholders or individuals.

(d) A certified copy of the organization's certificate of incorporation or similar document that clearly establishes non-profit status.

(e) Any of the items in the subparagraphs immediately above for a State or national parent organization and a statement signed by the parent organization that the applicant organization is a local non-profit affiliate.

Applications exceeding the dollar ceiling will be considered non-responsive and returned to the applicant without further review. Applications that fail to include the required non-federal share will be considered non-responsive and returned to the applicant without further review.

Applications that fail to include the required amount of cost-sharing will be considered non-responsive and will not be eligible for funding under this announcement.

Applications that exceed the $50,000 ceiling will be considered non-responsive and will not be eligible for funding under this announcement.

2. Cost Sharing or Matching

Matching funds are required for applications submitted under this program announcement. Grantees must provide at least 25 percent of the total approved cost of the project. The total approved cost of the project is the sum of the ACF share and the non-federal share. The non-federal share may be met by cash or in-kind contributions, although applicants are encouraged to meet their match requirements through cash contributions.

For example, in order to meet the match requirements, a project with a total approved cost of $66,666, must provide a non-federal share of at least $16,666 (25% of total approved project cost of $66,666). Grantees will be held accountable for commitments of non-federal resources even if over the amount of the required match. Failure to provide the amount will result in disallowance of Federal funds.

Applications that fail to include the required amount of cost-sharing will be considered non-responsive and will not be eligible for funding under this announcement.

3. Other

All Applicants must have Duns& Bradstreet Number. On June 27, 2003, the Office of Management and Budget published in the Federal Register a new Federal policy applicable to all Federal grant applicants. The policy requires Federal grant applicants to provide a Duns and Bradstreet Data Universal Numbering System (DUNS) number when applying for Federal grants or cooperative agreements on of after October 1, 2003. The DUNS number will be required whether an applicant is submitting a paper application or using the government-wide electronic portal (www.Grants.gov). A DUNS number will be required for every application for a new award or renewal/continuation of an award, including applications or plans under formula, entitlement and block grant programs, submitted on or after October 1, 2003.

Please ensure that your organization has a DUNS number. You may acquire a DUNS number at no cost by calling the dedicated toll-free DUNS number request line at 1-866-705-5711 or you may request a number on-line at www.dnb.com.

IV. Application and Submission Information

1. Address To Request Application Package

ACYF Operations Center, c/o The Dixon Group, Inc., Attn: FV-FYSB Funding, 118 Q Street, NE., Washington, DC 20002-2132; Telephone: (866) 796-1591

2. Content and Form of Application Submission

Applicants have the option of omitting from the application copies (not the original) specific salary rates or amounts for individuals specified in the application budget.

You may submit your application to us in either electronic or paper format.

To submit an application electronically, please use the www.Grants.gov apply site. If you use Grants.gov, you will be able to download a coy of the application package, complete it off-line, and then upload and submit the application via the Grants.gov site.

You may not e-mail an electronic copy of a grant application to us. Please note the following if you plan to submit your application electronically via Grants.Gov.

• Electronic submission is voluntary

• When you enter the Grants.Gov site, you will find information about submitting an application electronically through the site, as well as the hours of operation. We strongly recommend that you do not wait until the application deadline date to begin the application process through Grants.Gov.

• To use Grants.gov, you, as the applicant, must have a DUNS Number and register in the Central Contractor Registry (CCR). You should allow a minimum of five days to complete the CCR registration.

• You will not receive additional point value because you submit a grant application in electronic format, nor will we penalize you if you submit an application in paper format.

• You may submit all documents electronically, including all information typically included on the SF 424 and all necessary assurances and certifications.

• Your application must comply with any page limitation requirements described in this program announcement.

• After you electronically submit your application, you will receive an automatic acknowledgement from Grants.gov that contains a Grants.gov tracking number. The Administration for Children and Families will retrieve your application from Grants.

• We may request that you provide original signatures on forms at a later date.

• You may access the electronic application for this program on www.Grants.gov.

• You must search for the downloadable application package by the CFDA number.

Private non-profit organizations may voluntarily submit with their applications the survey located under “Grant Related Documents and Forms” titled “Survey for Private, Non-Profit Grant Applicants” at www.acf.hhs.gov/programs/ofs/forms.htm.

3. Submission Dates and Times

The closing time and date for receipt of applications is 4:30 p.m. Eastern Standard Time (EST) on July 16, 2004.

Mailed or hand carried applications received after 4:30 p.m. on the closing date will be classified as late.

Deadline: Mailed applications shall be considered as meeting an announced deadline if they are received on or before the deadline time and date at the Administration on Children, Youth and Families (ACYF) Operations Center, c/o The Dixon Group Inc., Attn: FV-FYSB Funding, 118 Q Street, NE., Washington, DC 20002-2132. Applicants are responsible for mailing applications well in advance, when using all mail services, to ensure that the applications are received on or before the deadline time and date.

Applications hand carried by applicants, applicant couriers, other representatives of the applicant, or by overnight/express mail couriers shall be considered as meeting an announced deadline if they are received on or before the deadline date, between the hours of 8 a.m. and 4:30 p.m., EST, between Monday and Friday (excluding Federal holidays). This address must appear on the envelope/package containing the application with the note “Attention: Administration on Children, Youth and Families (ACYF) Operations Center, c/o The Dixon Group Inc., FV-FYSB Funding, 118 Q Street, NE., Washington, DC 20002-2132.” Applicants are cautioned that express/overnight mail services do not always deliver as agreed.

ACF cannot accommodate transmission of applications by fax.

Late applications: Applications which do not meet the criteria above are considered late applications. ACF shall notify each late applicant that its application will not be considered in the current competition.

Extension of deadlines: ACF may extend application deadlines when circumstances such as acts of God (floods, hurricanes, etc.) occur, or when there are widespread disruptions of mail service, or in other rare cases. A determination to extend or waive deadline requirements rests with the Chief Grants Management Officer.

What to submit | Required content | Required form or format | When to submit
SF424, SF424a, SF424B | Per required form | May be found at www.acf.hhs.gov/program/ofs/forms.htm | By application due date.
Project Summary/Abstract | Summary of application request | One page limit | By application due date.
Project Description | Responsiveness to evaluation criteria | Format described in Review and Selection section. Limit 40 pages. Size 12 font, ½″ margins | By application due date.
Certification regarding Lobbying | Per required Form | May be found at www.acf.hhs.gov/program/ofs/forms.htm | By application due date.
Environmental Tobacco Smoke Certification | Per required Form | May be found at www.acf.hhs.gov/program/ofs/forms.htm | By application due date.

Additional Forms: Private non-profit organizations are encouraged to submit with their applications the survey located under “Grant Related Documents and Forms” titled “Survey for Private, Non-Profit Grant Applicants” at www.acf.hhs.gov/programs/ofs/forms.htm.

What to submit | Required content | Required form or format | When to submit
Survey for Private, Non-Profit Grant Applicants | Per Required Form | May be found at http://www.acf.hhs.gov/programs/ofs/form.htm | By application due date.

4. Intergovernmental Review

State Single Point of Contact (SPOC)

This program is covered under Executive Order (E.O.) 12372, “Intergovernmental Review of Federal Programs”, and 45 CFR Part 100, “Intergovernmental Review of Department of Health and Human Services Programs and Activities”. Under the Order, States may design their own processes for reviewing and commenting on proposed Federal assistance under covered programs.

As of October 2003, of the most recent SPOC list, the following jurisdictions have elected not to participate in the Executive Order process. Applicants from these jurisdictions or for projects administered by federally-recognized Indian Tribes need take no action in regard to E.O. 12372: Alabama, Alaska, Arizona, Colorado, Connecticut, Hawaii, Idaho, Indiana, Kansas, Louisiana, Massachusetts, Minnesota, Montana, Nebraska, New Jersey, New York, Ohio, Oklahoma, Oregon, Palau, Pennsylvania, South Dakota, Tennessee, Vermont, Virginia, Washington and Wyoming.

Although the jurisdictions listed above no longer participate in the process, entities which have met the eligibility requirements of the program are still eligible to apply for a grant even if a State, Territory, Commonwealth, etc. does not have a SPOC. All remaining jurisdictions participate in the Executive Order process and have established SPOCs. Applicants from participating jurisdictions should contact their SPOCs as soon as possible to alert them of the prospective applications and receive instructions. Applicants must submit any required material to the SPOCs as soon as possible so that the program office can obtain and review SPOC comments as part of the award process. The applicant must submit all required materials, if any, to the SPOC and indicate the date of this submittal (or the date of contact if no submittal is required) on the Standard Form 424, item 16a. Under 45 CFR 100.8(a)(2), a SPOC has 60 days from the application deadline to comment on proposed new or competing continuation awards.

SPOCs are encouraged to eliminate the submission of routine endorsements as official recommendations. Additionally, SPOCs are requested to clearly differentiate between mere advisory comments and those official State process recommendations which may trigger the “accommodate or explain” rule.

When comments are submitted directly to ACF, they should be addressed to: Department of Health and Human Services, Administration for Children and Families, Division of Discretionary Grants, 370 L'Enfant Promenade, SW., and Washington, DC 20447.

5. Funding Restrictions

ACY will not fund any project where the role of the applicant is to serve as a conduit for funds to organizations other than the applicant. The applicant must have a substantive role in the implementation of the project for which the funding is requested. This prohibition does not bar the making of sub-grants or sub-contracting for specific services or activities needed to conduct the project.

Applicants that fail to include the required match will be considered non-responsive and will not be eligible for funding under this announcement.

6. Other Submission Requirements

Submission by Mail: An Applicant must provide an original application with all attachments, signed by an authorized representative and two complete copies. The application must be received at the address below by 4:30 p.m. Eastern Standard Time (EST) on or before August 2, 2004.

V. Application Review Information

1. Criteria

The Paperwork Reduction Act of 1995 (P.L. 104-13)

This program announcement does not contain information requirements beyond those approved for ACF grant applications under OMB control number 0970-0139. An agency may not conduct or sponsor, and a person is not required to respond to, a collection of information unless it displays a currently valid OMB control number. Public reporting burden for this collection of information is estimated to average 25 hours per response.

The following are instructions on how to prepare the “project summary/abstract” and “Full Project Description” sections of the application. Note that each criterion is preceded by the generic evaluation requirement under the ACF Uniform Project Description (UPD).

Purpose

The project description provides a major means by which an application is evaluated and ranked to compete with other applications for available assistance. The project description should be concise and complete and should address the activity for which Federal funds are being requested. Supporting documents should be included where they can present information clearly and succinctly. In preparing your project description, all information requested through each specific evaluation criteria should be provided. Awarding offices use this and other information in making their funding recommendations. It is important, therefore, that this information be included in the application.

Introduction

Applicants required to submit a full project description shall prepare the project description statement in accordance with the following instructions and the specified evaluation criteria. The instructions give a broad overview of what your project description should include while the evaluation criteria expands and clarifies more program-specific information that is needed.

Project Summary/Abstract

Provide a summary of the project description (a page or less) with reference to the funding request.

Objectives and Need for Assistance

Clearly identify the physical, economic, social, financial, institutional, and/or other problem(s) requiring a solution. The need for assistance must be demonstrated and the principal and subordinate objectives of the project must be clearly stated; supporting documentation, such as letters of support and testimonials from concerned interests other than the applicant, may be included. Any relevant data based on planning studies should be included or referred to in the endnotes/footnotes. Incorporate demographic data and participant/beneficiary information, as needed. In developing the project description, the applicant may volunteer or be requested to provide information on the total range of projects currently being conducted and supported (or to be initiated), some of which may be outside the scope of the program announcement.

Results or Benefits Expected

Identify the results and benefits to be derived. For example, describe the population to be served by the program and the number of new jobs that will be targeted to the target population. Explain how the project will reach the targeted population, how it will benefit participants including how it will support individuals to become more economically self-sufficient.

Approach

Outline a plan of action which describes the scope and detail of how the proposed work will be accomplished. Account for all functions or activities identified in the application. Cite factors which might accelerate or decelerate the work and state your reason for taking the proposed approach rather than others. Describe any unusual features of the project such as design or technological innovations, reductions in cost or time, or extraordinary social and community involvement.

Provide quantitative monthly or quarterly projections of the accomplishments to be achieved for each function or activity in such terms as the number of people to be served and the number of activities accomplished. Account for all functions or activities identified in the application. Cite factors that might accelerate or decelerate the work and state your reasons for taking the proposed approach rather than others. Describe any unusual features of the project such as design or technical innovations, reductions in cost or time or extraordinary social and community involvement.

Provide quantitative monthly or quarterly projections of the accomplishments to be achieved for each function or activity in, for example such terms as the “number of people served.” When accomplishments cannot be quantified by activity or function, list them in chronological order to show the schedule of accomplishments and their target dates.

If any data is to be collected, maintained, and/or disseminated, clearance may be required from the U.S. Office of Management and Budget (OMB). This clearance pertains to any “collection of information that is conducted or sponsored by ACF.”

List organizations, cooperating entities, consultants, or other key individuals who will work on the project along with a short description of the nature of their effort or contribution.

Evaluation

Provide a narrative addressing how the results of the project and the conduct of the project will be evaluated. In addressing the evaluation of results, state how you will determine the extent to which the project has achieved its stated objectives and the extent to which the accomplishment of objectives can be attributed to the project. Discuss the criteria to be used to evaluate results, and explain the methodology that will be used to determine if the needs identified and discussed are being met and if the project results and benefits are being achieved. With respect to the conduct of the project, define the procedures to be employed to determine whether the project is being conducted in a manner consistent with the work plan presented and discuss the impact of the project's various activities on the project's effectiveness.

Organizational Profiles

Provide information on the applicant organization(s) and cooperating partners such as organizational charts, financial statements, audit reports or statements from CPAs/Licensed Public Accountants, Employer Identification Numbers, names of bond carriers, contact persons and telephone numbers, child care licenses and other documentation of professional accreditation, information on compliance with Federal/State/local government standards, documentation of experience in the program area, and other pertinent information. Any non-profit organization submitting an application must submit proof of its non-profit status in its application at the time of submission.

The non-profit agency can accomplish this by providing a copy of the applicant's listing in the Internal Revenue Service's (IRS) most recent list of tax-exempt organizations described in Section 501(c)(3) of the IRS code, or by providing a copy of the currently valid IRS tax exemption certificate, or by providing a copy of the articles of incorporation bearing the seal of the State in which the corporation or association is domiciled.

Budget and Budget Justification

Provide line item detail and detailed calculations for each budget object class identified on the Budget Information form. Detailed calculations must include estimation methods, quantities, unit costs, and other similar quantitative detail sufficient for the calculation to be duplicated. The detailed budget must also include a breakout by the funding sources identified in Block 15 of the SF-424.

Provide a narrative budget justification that describes how the categorical costs are derived. Discuss the necessity, reasonableness, and allocability of the proposed costs.

2. Evaluation Criteria

Evaluation Criterion I: Approach (Maximum: 30 Points)

The extent to which the application outlines a sound and workable plan of action pertaining to the scope of the project, and details how the proposed work will be accomplished; relates each task to the objectives and identifies the key staff member who will be the lead person; provides a chart indicating the timetable for completing each task, the lead person, and the time committed; cites factors which might accelerate or decelerate the work, giving acceptable reasons for taking this approach as opposed to others; describes and supports any unusual features of the project, such as design or technological innovations, reductions in cost or time, or extraordinary social and community involvement; and provides for projections of the accomplishments to be achieved.

The extent to which, when applicable, the application describes the evaluation methodology that will be used to determine if the needs identified and discussed are being met and if the results and benefits identified are being achieved.

Evaluation Criterion II: Objectives and Need for the Project (Maximum: 20 Points)

The extent to which the need for the project and the problems it will address have national and local significance; the applicability of the project to coordination efforts by national, Tribal, State and local governmental and non-profit agencies, and its ultimate impact on domestic violence prevention services and intervention efforts, policies and practice; the relevance of other documentation as it relates to the applicant's knowledge of the need for the project; and the identification of the specific topic or program area to be served by the project. Maps and other graphic aids may be attached. The extent to which the specific goals and objectives have national or local significance, the clarity of the goals and objectives as they relate to the identified need for and the overall purpose of the project, and their applicability to policy and practice. The provision of a detailed discussion of the objectives and of the extent to which they are realistic, specific, and achievable.

Evaluation Criterion III: Results and Benefits (Maximum: 20 Points)

The extent to which the application identifies the results and benefits to be derived, the extent to which they are consistent with the objectives of the application, the extent to which the application indicates the anticipated contributions to policy, practice, and theory, and the extent to which the proposed project costs are reasonable in view of the expected results. Identify, in specific terms, the results and benefits, for target groups and human service providers, to be derived from implementing the proposed project.

Evaluation Criterion IV: Organizational Profiles (Maximum: 15 Points)

The extent to which the participating organizations and entities have discussed, through letters and other documentation, the proposed collaboration and cooperation. Assess the extent to which the financial and physical resources provided by the participating entities will be adequate and to what extent will the coordinating organizations participate in the day to day operations of the project.

Evaluation Criterion V: Budget (Maximum: 15 Points)

Relate the proposed budget to the level of effort required to obtain the project's objectives and provide a cost/benefit analysis. Demonstrate that the project's costs are reasonable in view of the anticipated results. Applications will be evaluated on the extent to which they include a budget that is concise and provides a detailed justification of the amount of Federal funds that are requested.

VI. Award Administration Information

1. Award Notices

The successful applicants will be notified through the issuance of a Financial Assistance Award document which sets forth the amount of funds, granted, the terms and conditions of the grant, the effective date of the grant, the budget period for which initial support will be given, the non-Federal share to be provided, and the total project period for which support is contemplated. The Financial Assistance Award will be signed by the Grants Officer and transmitted via postal mail.

Organizations whose applications will not be funded will be notified in writing.

2. Administrative and National Policy Requirements

45 CFR Part 74 or 92.

3. Reporting

Programmatic Reports: Semi-annually and a final report is due 90 days after the end of the grant period.

Financial Reports: Semi-annually and a final report due 90 days after the end of the grant period.

All grantees are required to submit semi-annual program reports and semi-annual financial status reports using the required financial standard form (SF-269).

VII. Agency Contacts

Program Office Contact: William D. Riley, Family Violence Division, 330 C Street, Rm. 2117, Switzer Building, Washington, DC 20447, E-mail: wriley@acf.hhs.gov, Telephone: (202) 401-5529.

Grants Management Office Contact: William Wilson, Grants Officer, Administration on Children, Youth and Families, Room 2070 Switzer Building, 330 C Street, SW., Washington, DC 20447, 202-205-8913, E-mail: wwilson@acf.hhs.gov.

VIII. Other Information

Additional information about this program and its purpose can be located on the following Web site: http://www.acf.hhs.gov/programs/fysb.

Dated: May 25, 2004.
Joan E. Ohl,
Commissioner, Administration on Children, Youth and Families.

[FR Doc. 04-12349 Filed 5-28-04; 8:45 am]

BILLING CODE 4184-01-P